POSTAL SERVICE

39 CFR Part 233

Circulars and Rewards

AGENCY: Postal Service™.

ACTION: Final rule.

SUMMARY: The Postal Inspection Service has the authority to issue monetary rewards for certain types of offenses against the United States Code. Changes in the relevant regulation will be made to reflect an increase in monetary reward amounts and a reclassification of the types of offenses for which rewards can be issued.

DATES: Effective August 21, 2023.

FOR FURTHER INFORMATION CONTACT: Louis DiRienzo, Chief Counsel, U.S. Postal Inspection Service at 202 268-2705 or ljdirienzo@uspis.gov.

SUPPLEMENTARY INFORMATION: 39 CFR 233.2 gives Postal Inspection Service the authority to issue monetary rewards for certain types of offenses against the United States Code. 39 CFR 233.2 will be changed to reflect an increase in monetary reward amounts and a reclassification of the types of offenses for which rewards can be issued. Specifically, the rule change will reclassify offenses by categories which were previously classified by monetary amount. Reward amounts for the recategorized offenses will be increased to reflect current valuations and severity of such offenses.

These changes will be mirrored in the publication of the Postal Service's Poster 296, embedded in the footnote of 39 CFR 233.2, which in turn, will facilitate a better understanding of the Postal Service's reward system to the general public. Such changes will further enhance any investigation of the listed offenses and provide a deterrent incentive to the commission of crimes against the Postal Service. Additionally, the new rule adds a reward for mail fraud offenses. These changes will give the Chief Postal Inspector the discretion to authorize rewards exceeding Poster 296 amounts, and to offer rewards for other offenses not specifically listed in Poster 296.

The Postal Service is publishing a final rule to update Postal Service regulations regarding the 39 CFR part 233.2, Circulars and Rewards. The circumstances which created the need for the update were as follows: (1) 39 CFR 233.2 was published as a final rule on March 29, 2004; (2) since the publication of 39 CFR 233.2, no updates have been made; (3) changes to Poster 296 will be simultaneously made with this rule change to increase reward amounts and to recategorize the types of offenses for which rewards can be offered (4) an update to 39 CFR 233.2 is required to ensure its consistency to the current Poster 296 changes.

We will publish an appropriate amendment to 39 CFR part 223 to reflect these changes.

List of Subjects in 39 CFR Part 233

Administrative practice and procedure, Banks, Banking, Credit, Crime, Infants and children, Law enforcement, Penalties, Privacy, Seizures and forfeitures.

PART 233—[AMENDED]

1. The authority citation for part 233 continues to read as follows:

Authority: 39 U.S.C. 101, 102, 202, 204, 401, 402, 403, 404, 406, 410, 411, 1003, 3005(e)(1), 3012, 3017, 3018; 12 U.S.C. 3401-3422; 18 U.S.C. 981, 983, 1956, 1957, 2254, 3061; 21 U.S.C. 881; Pub. L. 101-410, 104 Stat. 890 (28 U.S.C. 2461 note); Pub. L. 104-208, 110 Stat. 3009; Secs. 106 and 108, Pub. L. 106-168, 113 Stat. 1806 (39 U.S.C. 3012, 3017); Pub. L. 114-74, 129 Stat. 584.

2. In § 233.2, revise paragraphs (a) and (b)(1), the note following paragraph (b)(2), and paragraph (c) to read as follows:

§ 233.2 Circulars and rewards.

Circulars. The Inspection Service may issue wanted circulars or notices to assist in the apprehension of fugitives sought in the connection of postal offenses. The Inspection Service may issue circulars or notices seeking information and services leading to the arrest and conviction of any person for postal offenses. Circulars and notices may offer rewards as set forth in paragraph (b) of this section.

(b) * * *

(1) Rewards may be paid for any amount up to the maximum categorical amount stated in Poster 296, under the conditions stated in Poster 296, Notice of Reward, for information leading to the apprehension of fugitives sought in the connection of the following postal offenses, or for information and services leading to the arrest and conviction of any person for the following postal offenses:

(i) Robbery or attempted robbery.

(ii) Mailing or causing to be mailed bombs, explosives, poison, weapons of mass destruction.

(iii) Post Office burglary.

(iv) Stealing or unlawful possession of mail or money or property of the United States under the custody or control of the Postal Service, including property of the Postal Service.

(v) Destroying, obstructing, or retarding the passage of mail.

(vi) Altering, counterfeiting, forging, unlawful uttering or passing of postal money orders; or the unlawful use, counterfeiting or forgery of postage stamps or other postage; or the use, sale, or possession with intent to use or sell, any forged or counterfeited postage stamp or other postage.

(vii) Assault on postal employee.

(viii) Murder or manslaughter of a postal employee.

(ix) Mailing or receiving through the mail any visual depiction involving the use of a minor engaging in sexually explicit conduct, or the use of the mail to facilitate any crime relating to the sexual exploitation of children.

(x) The use of the mails or any Postal Service product or service to engage in money laundering, mailing, or causing to be mailed any money or other financial instrument which has been obtained illegally,

(xi) Using the mail to execute a scheme to defraud or obtain money or property from another by false pretenses or promises.

(xii) Illegally mailing or causing to be mailed controlled substances, narcotics, illegal drugs, or the proceeds from the sale of illegal drugs.

(xiii) Illegally mailing or causing to be mailed any firearm.

(xiv) Defrauding the USPS Workers' Compensation Program by any current or former postal employee.

* * * * *

Note 1 to paragraph (b): The text of Poster 296, referred to in paragraph (b)(1) of this section, reads as follows:

The United States Postal Inspection Service may pay rewards up to the listed amounts for the apprehension of fugitives sought in the connection of the below listed offenses or for information and services leading to the arrest and conviction of any person for the below listed offenses:

Offenses Against USPS Employees/Contractors

MURDER OR MANSLAUGHTER: $250,000

The unlawful killing of any officer, employee, or contractor of the Postal Service™ while engaged in or on account of the performance of his or her official duties.

ROBBERY: $150,000

Robbery or attempted robbery of any custodian of any mail, money, or other property of the United States under the control and jurisdiction of the Postal Service.

ASSAULT ON POSTAL EMPLOYEES: $150,000

Forcibly assaulting any officer or employee of the Postal Service while engaged in or on account of the performance of his or her official duties.

Offenses Involving Mailings

BOMBS, EXPLOSIVES, WEAPONS OF MASS DESTRUCTION, POISONS: $250,000

Mailing or causing to be mailed any bombs, explosives, actual or simulated weapons of mass destruction, dangerous chemicals or biological materials that may kill or harm another, or injure the mail or other property, or the placing of any bomb or explosive in a postal facility, vehicle, depository, or receptacle established, approved, or designated by the Postmaster General or their designee for the receipt of mail.

CONTROLLED SUBSTANCES, NARCOTICS: $100,000

Illegally mailing or causing to be mailed any controlled substances, illegal drugs, or the proceeds from the sale of illegal drugs.

MONEY LAUNDERING: $100,000

The use of the mails or any Postal Service product or service to engage in money laundering, mailing or causing to be mailed any money or other financial instrument which has been obtained illegally.

FIREARMS: $100,000

Illegally mailing or causing to be mailed any firearm.

SEXUAL EXPLOITATION OF CHILDREN: $150,000

The use of the mail to traffic in child pornography or facilitate any other crime relating to the sexual exploitation of children.

MAIL FRAUD: $100,000

The use of the mail to execute a scheme to defraud or obtain money or property from another by false pretenses or promises.

Offenses Involving Theft of Mail or USPS Property

BURGLARY OF POST OFFICE: $100,000

Breaking into, or attempting to break into, a Post Office™, station, branch, a building used wholly or partly as a Post Office, or any building or area in a building where the business of the Postal Service is conducted, with intent to commit a larceny or other depredation therein.

THEFT OF MAIL OR POSTAL SERVICE PROPERTY: $100,000

Theft or attempted theft of any mail, or the contents thereof, or the theft of money or any other property of the Postal Service or the United States under the custody and control of the Postal Service from any custodian, postal vehicle, railroad depot, airport, or other transfer point, Post Office, or station, receptacle, or depository established, approved, or designated by the Postmaster General for the receipt of mail; possession of any item above which was stolen from Postal Service custody; or destroying, obstructing, or retarding the passage of mail, or any carrier or conveyance carrying the mail.

THEFT OF POSTAL MONEY ORDERS: $100,000

Theft or possession of stolen postal money orders or any Postal Service equipment used to imprint money orders; or altering, counterfeiting, forging, unlawful uttering, or passing of Postal money orders.

POSTAGE OR METER TAMPERING: $100,000

The unlawful use, reuse, or forgery of postage stamps, postage meter stamps, permit imprints, or other postage; or the use, sale, or possession with intent to use or sell any used, forged, or counterfeited postage stamp or other postage.

WORKERS COMPENSATION FRAUD: $100,000

Defrauding the USPS Workers' Compensation Program by any current or former postal employee.

Related Offenses

The United States Postal Service also offers rewards as stated above for information and services leading to the arrest and conviction of any person: (1) for being an accessory to any of the above crimes; (2) for receiving or having unlawful possession of any mail, money, or property secured through the above crimes; and (3) for conspiracy to commit any of the above crimes.

General Provisions

1. The Postal Inspection Service investigates the above-described crimes. Information concerning the violations, requests for applications for rewards, and written claims for rewards should be furnished to the nearest Postal Inspector. The written claim for reward payment must be submitted within 6 months from the date of conviction of the offender, the date of arrest of a previously convicted fugitive, the date of formally deferred prosecution, or the date of the offender's death if the offender was killed while committing a crime or resisting lawful arrest for one of the above offenses.

2. Reward amounts shown above are the maximum amounts that may paid; however, the Chief Postal Inspector may authorize rewards in excess of the maximum amounts for specific matters. The maximum reward amount that may be paid for information leading to the apprehension of fugitives, or for information and services leading to the arrest and conviction of any person for specific matters, or incidents may be set forth in the specific circular or notices and may be less than the maximum amount listed above.

3. Overall, the actual amount paid on any reward will be based on the significance of information provided or services rendered, character of the offender, risks and hazards involved, time spent, and expenses incurred.

4. The term “custodian” as used herein includes any person having lawful charge, control, or custody of any mail matter, or any money or other property of the United States under the control and jurisdiction of the United States Postal Service.

5. The Postal Service reserves the right to reject a claim for reward where there has been collusion or criminal involvement, or improper methods have been used to effect an arrest or to secure a conviction. It has the right to allow only one reward when several persons were convicted of the same offense, or one person was convicted of several of the above offenses. Postal employees are not eligible to receive a reward.

6. Rewards for additional offenses not specifically listed in this notice may be offered upon approval of the Chief Postal Inspector [39 U.S.C. 404 (a) (7)].

(c) Authorization. The Chief Postal Inspector or his delegate is authorized to pay a reward to any person who provides information leading to the detection of persons or firms who obtain, or seek to obtain, funds, property, or services from the Postal Service based upon false or fraudulent activities, statements, or claims. The decision as to whether a reward shall be paid and the amount thereof shall be solely within the discretion of the Chief Postal Inspector or his delegate and the submission of information or a claim for a reward shall not establish a contractual right to receive any reward. The reward shall not exceed one-half of the amount collected by the Postal Service as a result of civil or criminal proceedings to recover losses or penalties as a result of false or fraudulent claims or statements submitted to the Postal Service. Postal employees assigned to the Postal Inspection Service, the Law Department, or USPS Office of Inspector General are not eligible to receive a reward under this section for information obtained while so employed. The Chief Inspector may establish such procedures and forms as may be desirable to give effect to this section including procedures to protect the identity of persons claiming rewards under this section.

Tram T. Pham,
Attorney, Ethics and Legal Compliance.

[FR Doc. 2023-15449 Filed 7-20-23; 8:45 am]

BILLING CODE 7710-12-P